DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Methods for Promoting Stem Cell Proliferation and Survival

Description of Technology: Regenerative medicine has the potential to treat numerous human diseases and afflictions including neurodegenerative disorders and spinal cord injury that are typically insidious and worsen over time. This technology consists of a promising treatment method that coaxes stem cells into a state that promotes survival and proliferation. Two critical elements of this approach involve identifying the target niche and determining the pharmacological agents that can be used to promote stem cell regeneration.

Specifically, this technology consists of a method to activate the endogenous neural stem cells (NSCs) to promote their survival and yield using angiopoietin-2 and a cocktail of ligands and growth factors. This method has demonstrated that it can significantly improve the yield of stem cell cultures in vitro and stimulate behavioral recovery in a model of Parkinson's disease in vivo. This method is applicable to a variety of stem cell types including embryonic stem cells, adult spinal cord cells, and pericyctes from blood vessels.

Possible Applications:

• Method for culturing stem cells for optimal regeneration.

• Treatment of neurological diseases and disorders such as Parkinson's disease, stroke, diabetes-related neuropathies, and spinal cord.

• Diagnostic assays to determine proliferation or inhibition of stem cells.

Development Status: Pre-clinical.

Inventors: Andreas Androutsellis-Theotokis and Ronald D.G. McKay (NINDS).

Relevant Publication: A Androutsellis-Theotokis, RR Leker, F Soldner, DJ Hoeppner, R Ravin, SW Poser, MA Rueger, SK Bae, R Kittappa, RD McKay. Notch signaling regulates stem cell numbers in vitro and in vivo. Nature. 2006 Aug 17;442(7104):823-826.

Patent Status: U.S. Provisional Application No. 60/965,094 filed 16 Aug 2007 (HHS Reference No. E-182-2007/0-US-01)

Licensing Status: Available for licensing.

Licensing Contact: Fatima Sayyid, M.H.P.M.; 301-435-4521; Fatima.Sayyid@nih.hhs.gov

Collaborative Research Opportunity: The National Institute of Neurological Disorders and Stroke is seeking statements of capability or interest from parties interested in collaborative research to further develop, evaluate, or commercialize agents with activity on proliferation and/or differentiation of stem cells. Please contact Laurie Arrants at 301-435-3112 or ArrantsL@ninds.nih.gov or Martha Lubet at 301-435-3120 or lubetm@mail.nih.gov for more information.

Treatment of Alcoholism by Inhibition of the Neuropeptide Y Receptor

Description of Technology: Aversive or anticraving medications are currently used to supplement behavioral treatment of alcohol dependence. However, there is a need for developing more effective medications than those available. Neuropeptide Y (NPY) is a neurotransmitter known for increasing appetite and possibly having a role in alcohol preference and dependence. This is likely to be mediated by activation of the post-synaptic NPY-Y1 receptor, but developing molecules suitable for human therapeutics that activate that receptor represents a major challenge. Researchers at the NIH have now shown that administering antagonists of the presynaptic Y2 receptor of NPY decreases alcohol consumption and may be a valuable new treatment for alcoholism.

Applications: Treatment of alcohol dependence.

Market: In the United States, 17.6 million people—about l in every 12 adults—abuse alcohol or are alcohol dependent. It is estimated that on any given day, more than 700,000 people in the United States receive alcoholism treatment. Consequently, billions of dollars are spent in the treatment, prevention, and support of persons suffering from alcoholism. Moreover, the economic loss attributed to alcohol abuse and alcoholism is in the trillions.

Development Status: Early stage.

Inventors: Markus Heilig (NIAAA) et al.

Publications:

1. R Rimondini et al. Suppression of ethanol self-administration by the neuropeptide Y (NPY) Y2 receptor antagonist BIIE0246: Evidence for sensitization in rats with a history of dependence. Neurosci Lett. 2005 Feb 28;375(2):129-133.

2. A Thorsell et al. Blockade of central neuropeptide Y (NPY) Y2 receptors reduces ethanol self-administration in rats. Neurosci Lett. 2002 Oct 25;332(1):1-4.

Patent Status: U.S. Patent Application 10/492,785 filed 17 May 2004 (HHS Reference No. E-101-2004/0-US-03); Swedish Patent Application 0103476-8 filed 18 Oct 2001 (HHS Reference No. E-101-2004/0-SE-01)

Licensing Status: Available for licensing.

Licensing Contact: Norbert Pontzer, JD, PhD; 301-435-5502; pontzern@mail.nih.gov.

Collaborative Research Opportunity: The National Institute on Alcohol Abuse and Alcoholism, Laboratory of Clinical and Translational Studies is seeking statements of capability or interest from parties interested in collaborative research to further develop, evaluate, or commercialize antagonism of presynaptic NPY Y2 receptors for treatment of alcohol dependence. Please contact Peter B. Silverman at psilverm@mail.nih.gov for more information.

Dated: July 22, 2008.
Richard U. Rodriguez,
Director, Division of Technology Development and Transfer, Office of Technology Transfer, National Institutes of Health.

[FR Doc. E8-17508 Filed 7-30-08; 8:45 am]

BILLING CODE 4140-01-P